ENVIRONMENTAL PROTECTION AGENCY

40 CFR Part 60

[EPA-HQ-OAR-2014-0292; FRL-9965-63-OAR]

Revisions to Test Methods, Performance Specifications, and Testing Regulations for Air Emission Sources; Technical Correction

AGENCY: Environmental Protection Agency (EPA).

ACTION: Final rule; technical correction.

SUMMARY: The Environmental Protection Agency (EPA) is taking action to correct an omission in revisions requested to Performance Specification 2 in the “revisions” rule published August 30, 2016.

DATES: Effective: August 7, 2017.

FOR FURTHER INFORMATION CONTACT: Mrs. Lula H. Melton, Air Quality Assessment Division, Office of Air Quality Planning and Standards (E143-02), Environmental Protection Agency, Research Triangle Park, NC 27711; telephone number: (919) 541-2910; fax number: (919) 541-0516; email address: melton.lula@epa.gov.

SUPPLEMENTARY INFORMATION: This action removes subparagraphs 6.1.1.1, 6.1.1.2, 6.1.1.3, and 6.1.1.4 in Performance Specification 2. These four subparagraphs are no longer necessary due to revisions that were made to paragraph 6.1.1 in the final “revisions” rule dated August 30, 2016 (81 FR 59800).

Section 553 of the Administrative Procedure Act (APA), 5 U.S.C. 553(b)(3)(B), provides that, when an agency for good cause finds that notice and public procedure are impracticable, unnecessary, or contrary to the public interest, the agency may issue a rule without providing notice and an opportunity for public comment. We have determined that there is good cause for making this technical amendment final without prior proposal and opportunity for public amendment because only simple publication errors are being corrected that do not substantially change the agency actions taken in the final rule. Thus, notice and public procedure are unnecessary. (See also the final sentence of section 307(d)(1) of the Clean Air Act (CAA), 42 U.S.C. 307(d)(1), indicating that the good cause provisions in subsection 553(b) of the APA continue to apply to this type of rulemaking under section 307(d) of the CAA.)

List of Subjects in 40 CFR Part 60

Environmental protection, Administrative practice and procedure, Air pollution control.

Dated: July 25, 2017.
Sarah Dunham,
Acting Assistant Administrator.

For the reasons stated in the preamble, the Environmental Protection Agency corrects title 40, chapter I of the Code of Federal Regulations as follows:

PART 60—STANDARDS OF PERFORMANCE FOR NEW STATIONARY SOURCES

1. The authority citation for part 60 continues to read as follows:

Authority: 42 U.S.C. 7401 et. seq.

Appendix B to Part 60 [Corrected]

2. In appendix B to part 60, in “Performance Specification 2-Specifications and Test Procedures for SO2 and NOX Continuous Emission Monitoring Systems in Stationary Sources” remove sections 6.1.1.1, 6.1.1.2, 6.1.1.3, and 6.1.1.4.

[FR Doc. 2017-16493 Filed 8-4-17; 8:45 am]

BILLING CODE 6560-50-P